DEPARTMENT OF LABOR

Employment and Training Administration

Agency Information Collection Activities; Comment Request; Trade Adjustment Assistance (TAA) Efforts to Improve Outcomes

ACTION: Notice.

SUMMARY: The Department of Labor's (DOL) Employment and Training Administration (ETA) is soliciting comments concerning a proposed revision to the authority to conduct the information collection request (ICR) titled, “Trade Adjustment Assistance (TAA) Efforts to Improve Outcomes.” This comment request is part of continuing Departmental efforts to reduce paperwork and respondent burden in accordance with the Paperwork Reduction Act of 1995 (PRA).

DATES: Consideration will be given to all written comments received by December 5, 2022.

ADDRESSES: A copy of this ICR with applicable supporting documentation, including a description of the likely respondents, proposed frequency of response, and estimated total burden, may be obtained free by contacting Robert Hoekstra by telephone at 202-693-3522 (this is not a toll-free number), TTY 1-877-889-5627 (this is not a toll-free number), or by email at hoekstra.robert@dol.gov.

Submit written comments about, or requests for a copy of, this ICR by mail or courier to the U.S. Department of Labor, Employment and Training Administration, Office of Trade Adjustment Assistance, 200 Constitution Ave NW, Washington, DC 20210; by email: taa.reports@dol.gov; or by fax 202-693-3584.

FOR FURTHER INFORMATION CONTACT: Robert Hoekstra by telephone at 202-693-3522 (this is not a toll-free number) or by email at hoekstra.robert@dol.gov.

Authority 44 U.S.C. 3506(c)(2)(A).

SUPPLEMENTARY INFORMATION: DOL, as part of continuing efforts to reduce paperwork and respondent burden, conducts a pre-clearance consultation program to provide the general public and federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

TAA Efforts to Improve Outcomes is a data collection that supplies critical information on the operation of the TAA Program and how the state is working to improve outcomes of their participants. Information is required to be collected by state, and is used by local, state, and federal agencies to (1) report program management information to Congress and other Federal agencies, and (2) improve the effectiveness of job training programs. While the form, frequency, and information are not changing with this collection, the authority for this collection has been revised to be 20 CFR 618.864(a)(3) as well as Governor-Secretary agreements authorized under sec. 239 of the Trade Act of 1974, as amended. See 19 U.S.C. 2311.

This information collection is subject to the PRA. A federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB 1205-0392.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Trade Adjustment Assistance (TAA) Efforts to Improve Outcomes.

Form: Program Performance Report, ETA-9173.

OMB Control Number: 1205-0392.

Affected Public: State, Local, and Tribal Governments; Individuals or Households.

Estimated Number of Respondents: 52.

Frequency: Quarterly.

Total Estimated Annual Responses: 208.

Estimated Average Time per Response: 0.5 hours.

Estimated Total Annual Burden Hours: 104 hours.

Total Estimated Annual Other Cost Burden: $0.

Brent Parton,
Acting Assistant Secretary for Employment and Training, Labor.

[FR Doc. 2022-21753 Filed 10-5-22; 8:45 am]

BILLING CODE 4510-FN-P